DEPARTMENT OF AGRICULTURE

Agricultural Marketing Service

[Docket No. TM-03-11]

Notice of Program Continuation

AGENCY: Agricultural Marketing Service, USDA.

ACTION: Notice inviting proposals for fiscal year (FY) 2004 grant funds under the Federal-State Marketing Improvement Program.

SUMMARY: Notice is hereby given for proposals for FY 2004 grant funds under the Federal-State Marketing Improvement Program (FSMIP). FSMIP anticipates that approximately $1.3 million will be available for support of this program in FY 2004. States interested in obtaining funds under the program are invited to submit proposals. While only State Departments of Agriculture or other appropriate State agencies are eligible to apply for funds, State agencies are encouraged to involve industry groups, academia and community-based organizations in the development of proposals and the conduct of projects.

DATES: Funds will be allocated on the basis of one round of consideration. Proposals will be accepted through February 13, 2004.

ADDRESSES: Proposals may be sent to: FSMIP, Transportation and Marketing Programs, Agricultural Marketing Service (AMS), U.S. Department of Agriculture, 1400 Independence Avenue, SW., Room 4009 South Building, Washington, DC 20250.

FOR FURTHER INFORMATION CONTACT: Janise Zygmont, FSMIP Staff Officer, (202) 720-2704.

SUPPLEMENTARY INFORMATION: FSMIP is authorized under section 204(b) of the Agricultural Marketing Act of 1946 (7 U.S.C. 1621 et seq.). FSMIP provides matching grants on a competitive basis to assist State Departments of Agriculture or other appropriate State agencies in conducting studies or developing innovative approaches related to the marketing of U.S. food and agricultural products. Other organizations interested in participating in this program should contact their State Department of Agriculture's Marketing Division to discuss their proposal.

Proposals are submitted by the State Agency and must be accompanied by completed Standard Forms (SF) 424 and 424A. Note that the SF 424 has been revised and that all applicants now must have a DUNS number and provide additional contact information when applying for this or any other Federal grant program. The revised SF 424 is available at: http://www.whitehouse.gov/omb/grants/grants_forms.html. AMS will not approve the use of FSMIP funds for advertising or, with limited exceptions, for the purchase of equipment. Detailed program guidelines may be obtained from your State Department of Agriculture, the above AMS contact, or the FSMIP Web site: www.ams.usda.gov/tmd/fsmip.htm.

FSMIP funds can be requested for a wide range of marketing research and marketing service activities, including projects aimed at:

(1) Developing and testing new or more efficient methods of processing, packaging, handling, storing, transporting, and distributing food and other agricultural products;

(2) Assessing customer response to new or alternative agricultural products or marketing services and evaluating potential opportunities for U.S. producers, processors and other agribusinesses, in both domestic and international markets; and,

(3) Identifying problems and impediments in existing channels of trade between producers and consumers of agricultural products and devising improved marketing practices, facilities, or systems to address such problems.

While all proposals which fall within the FSMIP guidelines will be considered, States are encouraged to submit proposals that have regional or national significance and that foster innovation in the following areas:

(1) Market Analysis—collecting and analyzing unique and relevant economic data and transportation and marketing statistics relating to targeted domestic and international markets.

(2) Transportation and distribution—finding ways to improve efficiency and reduce barriers in local, regional, national and international transportation and distribution systems to promote free movement of U.S. food and agricultural products.

(3) Competitiveness and new markets—identifying new opportunities for traditional and non-traditional products and by-products of agricultural production and processing in domestic and international markets. Assessing consumer preferences and consumer response to marketing and labeling claims.

(4) Quality and variety—enhancing the value of food and agricultural products through improvements in product quality and traceability. Using technology to address marketing challenges and opportunities such as developing new products and innovative packaging, or improving handling and storage methods.

Starting in FY 2004, applicants have the option of submitting FSMIP applications electronically through the central Federal grants Web site, http://grants.gov instead of mailing hard copy documents. Applicants considering the electronic application option are strongly urged to familiarize themselves with the Federal grants Web site well before the application deadline and to begin the application process before the deadline. Additional details about the FSMIP application process for all applicants are available at the FSMIP Web site: http://www.ams.usda.gov/tmd/fsmip.htm.

FSMIP is listed in the “Catalog of Federal Domestic Assistance” under number 10.156 and subject agencies must adhere to Title VI of the Civil Rights Act of 1964, which bars discrimination in all federally assisted programs.

Authority: 7 U.S.C. 1621-1627.

Dated: December 17, 2003.
A.J. Yates,
Administrator, Agricultural Marketing Service.

[FR Doc. 03-31540 Filed 12-22-03; 8:45 am]

BILLING CODE 3410-02-P